COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agency employing persons who are blind or have other severe disabilities and to delete products and a service previously furnished by such agencies.

DATES: Comments Must Be Received on or Before: 1/13/2014.

ADDRESSES: Committee for Purchase From People Who Are Blind or Severely Disabled, 1401 S. Clark Street, Suite 10800, Arlington, Virginia 22202-4149.

For Further Information or To Submit Comments Contact: Barry S. Lineback, Telephone: (703) 603-7740, Fax: (703) 603-0655, or email CMTEFedReg@AbilityOne.gov.

SUPPLEMENTARY INFORMATION:

This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agency employing persons who are blind or have other severe disabilities.

The following products are proposed for addition to the Procurement List to be furnished by the nonprofit agency listed:

Products

NSN: 6650-00-NIB-0027—Flat Top 28, Bifocal, Polycarbonate, Clear

NSN: 6650-00-NIB-0028—Flat Top 35, Bifocal, Polycarbonate, Clear

NSN: 6650-00-NIB-0029—Flat Top 7x28, Trifocal, Polycarbonate, Clear

NSN: 6650-00-NIB-0030—Flat Top 8x35, Trifocal, Polycarbonate, Clear

NSN: 6650-00-NIB-0031—Progressives (VIP, Adaptar, Freedom, Image), Polycarbonate

NSN: 6650-00-NIB-0032—Single Vision, Plastic, Clear

NSN: 6650-00-NIB-0033—Flat Top 28, Bifocal, Plastic, Clear

NSN: 6650-00-NIB-0034—Flat Top 35, Bifocal, Plastic, Clear

NSN: 6650-00-NIB-0035—Round 25 and 28, Bifocal, Plastic, Clear

NSN: 6650-00-NIB-0036—Flat Top 7x28, Trifocal, Plastic, Clear

NSN: 6650-00-NIB-0037—Flat Top 8x35, Trifocal, Plastic, Clear

NSN: 6650-00-NIB-0038—Progressives, Plastic, Clear

NSN: 6650-00-NIB-0039—SV, Aspheric, Lenticular, Plastic, Clear

NSN: 6650-00-NIB-0040—FT or round aspheric lenticular, Plastic, Clear

NSN: 6650-00-NIB-0041—Bifocal, Executive, Plastic, Clear

NSN: 6650-00-NIB-0042—Single Vision, Glass, Clear

NSN: 6650-00-NIB-0043—Flat Top 28, Bifocal, Glass, Clear

NSN: 6650-00-NIB-0044—Flat Top 35, Bifocal, Glass, Clear

NSN: 6650-00-NIB-0045—Flat Top 7x28, Trifocal, Glass, Clear

NSN: 6650-00-NIB-0046—Flat Top 8x35, Trifocal, Glass, Clear

NSN: 6650-00-NIB-0047—Progressives (VIP, Adaptar, Freedom), Glass, Clear

NSN: 6650-00-NIB-0048—Bifocal, Executive, Glass, Clear

NSN: 6650-00-NIB-0049—Single Vision, Polycarbonate, Clear

NSN: 6650-00-NIB-0050—Flat Top 28, Polycarbonate, Clear

NSN: 6650-00-NIB-0051—Flat Top 35, Bifocal, Polycarbonate, Clear

NSN: 6650-00-NIB-0052—Flat Top 7x28, Trifocal, Polycarbonate, Clear

NSN: 6650-00-NIB-0053—Flat Top 8x35, Trifocal, Polycarbonate, Clear

NSN: 6650-00-NIB-0054—Lenses, Progressives (VIP, Adaptar, Freedom, Image), Polycarbonate

NSN: 6650-00-NIB-0055—Transition, Plastic, CR-39

NSN: 6650-00-NIB-0056—Photochromatic/Transition, (Polycarbonate Material)

NSN: 6650-00-NIB-0057—Photogrey (glass only)

NSN: 6650-00-NIB-0058—High Index transition (CR 39)

NSN: 6650-00-NIB-0059—Anti-reflective Coating (CR 39 and polycarbonate)

NSN: 6650-00-NIB-0060—Ultraviolet Coating (CR 39)

NSN: 6650-00-NIB-0061—Polarized Lenses (CR 39)

NSN: 6650-00-NIB-0062—Slab-off (polycarbonate, CR 39: trifocal and bifocal

NSN: 6650-00-NIB-0063—High Index (CR-39)

NSN: 6650-00-NIB-0064—Prism (up to 6 diopters no charge) >6 diopters/diopter

NSN: 6650-00-NIB-0065—Diopter + or −9.0 and above

NSN: 6650-00-NIB-0066—Lenses, oversize eye, greater than 58, excluding progressive.

NSN: 6650-00-NIB-0067—Hyper 3 drop SV, multifocal (CR 39)

NSN: 6650-00-NIB-0068—Add powers over 4.0

NSN: 6650-00-NIB-0069—Plastic or Metal

NPA: Winston-Salem Industries for the Blind, Winston-Salem, NC

Contracting Activity: Network Contracting Office 8, Tampa, FL

Coverage: C-List for 100% of the requirements of Bay Pines Healthcare System, Bay Pines, FL and the James A. Haley Veterans Hospital, Tampa, FL as aggregated by Network Contracting Office 8, Tampa, FL

Deletions

The following products and service are proposed for deletion from the Procurement List:

Products

NSN: 7520-01-455-7236—Pen, Ballpoint, Stick Type, Recycled

NPA: West Texas Lighthouse for the Blind, San Angelo, TX

Contracting Activity: General Services Administration, New York, NY

NSN: 8955-01-E61-3689—Coffee, Roasted, Ground, 39 oz. bag resealable pouch

NPA: CW Resources, Inc., New Britain, CT

Contracting Activity: Defense Logistics Agency Troop Support, Philadelphia, PA

Tree Marking Paint and Tracer Element

NSN: 8010-01-273-9343—Zones 8-10 (16 OZ Bottle)

NSN: 8010-01-273-9344—Zones 8-10 (16 OZ Bottle)

NSN: 8010-01-273-9345—Zones 8-10 (16 OZ Bottle)

NSN: 8010-01-273-9347—Zones 1-7 (16-OZ Bottle)

NSN: 8010-01-273-9348—Zones 1-7 (16-OZ Bottle)

NSN: 8010-01-274-2560—Zones 8-10 (16 OZ Bottle)

NSN: 8010-01-274-2561—Zones 8-10 (16 OZ Bottle)

Tree Marking Paint, Water Clean Up

NSN: 8010-01-441-6105—Red

NSN: 8010-01-441-6106—Red

Tree Marking Paint, Citrus-Base

NSN: 8010-01-483-6494—Blue

NSN: 8010-01-483-6498—Orange

Tree Marking Paint, Water Resistant

NSN: 8010-01-511-5100—Yellow

NSN: 8010-01-511-5101—Green

NSN: 8010-01-511-5107—White

NSN: 8010-01-511-5109—Paint, Tree Marking, Solvent Base, Black, 1 Gallon

NPA: The Lighthouse for the Blind, St. Louis, MO

Contracting Activity: GSA/FSS Regional Fleet Management Office, Kansas City, MO

Service

Service Type/Location: Janitorial/Custodial Service, U.S. Geological Survey Upper Midwest, Environmental Science Center, 2630 Fanta Reed Road, La Crosse, WI

NPA: Riverfront Activity Center, Inc., La Crosse, WI

Contracting Activity: Dept. of the Interior, Office of Policy, Management, and Budget, NBC Acquisition Services Division, Washington, DC

Barry S. Lineback,
Director, Business Operations.

[FR Doc. 2013-29752 Filed 12-12-13; 8:45 am]

BILLING CODE 6353-01-P